FEDERAL COMMUNICATIONS COMMISSION

[IB Docket No. 16-185; DA 22-255; FRS 79035]

Announcement of Renewal of the World Radiocommunication Conference Advisory Committee and Solicitation of Members

AGENCY: Federal Communications Commission.

ACTION: Notice.

SUMMARY: In accordance with the Federal Advisory Committee Act, the Federal Communications Commission announces its intent to renew the World Radiocommunication Conference Advisory Committee (WRC Advisory Committee) and its solicitation of members. The renewal will be effective for a two-year period beginning March 31, 2022, following consultation with the Committee Management Secretariat, General Services Administration. The WRC Advisory Committee is a federal advisory committee under the Federal Advisory Committee Act. The Commission seeks applications from interested organizations, institutions, or other entities from both the public and private sectors that wish to be considered for membership on the Committee.

DATES: To be renewed for two years, starting March 31, 2022; Nominations, including contact information and the statement of qualifications, should be submitted by email to WRC-23@fcc.gov by March 31, 2022.

ADDRESSES: Federal Communications Commission, 45 L Street NE, Washington, DC 20554.

FOR FURTHER INFORMATION CONTACT: Dante Ibarra, Designated Federal Officer (DFO), WRC Advisory Committee, FCC International Bureau, Global Strategy and Negotiations Division, at (202) 418-0610. Email: dante.ibarra@fcc.gov.

SUPPLEMENTARY INFORMATION: After consultation with the Committee Management Secretariat, General Services Administration, the Commission intends to renew the charter of the WRC Advisory Committee for two years, commencing March 31, 2022. Its scope of activities is to address issues contained in the agenda for the 2023 World Radio Conference (WRC-23). Each organization, institution or entity (organizational applicant) may propose one primary representative. Organizational applicants are also encouraged to propose one alternate representative. Submission of the nomination of the organizational applicant's primary representative or alternative representative should include the nominated person's complete contact information (email address, telephone number and mailing address) as well as a resume. Similarly, those requesting appointment in their individual capacities (and not as an organizational applicant) should also provide complete contact information and a resume with their submission. The public notice DA 22-255 includes additional information on the membership application process and can be found at https://www.fcc.gov/document/fcc-announces-rechartering-and-solicitation-members-wac. Because the Commission recognizes that technologies and spectrum priorities may evolve over the course of the multi-year WRC-23 preparatory cycle and that the expertise or experience relevant to the mission of this Committee may change over time, the Commission will continue to accept applications for Committee Membership on a rolling basis after the initial March 31, 2022 deadline. The WRC-23 Advisory Committee will continue to provide to the FCC advice, data, and technical analyses, and will formulate recommendations relating to the preparation of U.S. proposals and positions for WRC-23.

Federal Communications Commission.
Neşe Guendelsberger,
Deputy Chief, International Bureau.

[FR Doc. 2022-06389 Filed 3-25-22; 8:45 am]

BILLING CODE 6712-01-P